ENVIRONMENTAL PROTECTION AGENCY

40 CFR Part 63

[EPA-R01-OAR-2009-0031; A-1-FRL-8974-6]

Approval of the Clean Air Act, Section 112(l), Authority for Hazardous Air Pollutants: Perchloroethylene Air Emission Standards for Dry Cleaning Facilities: Commonwealth of Massachusetts Department of Environmental Protection

AGENCY: Environmental Protection Agency (EPA).

ACTION: Proposed rule.

SUMMARY: EPA proposes to approve Massachusetts Department of Environmental Protection's (“MassDEP”) request to implement and enforce the amended 310 CMR 70.00 Environmental Results Program (“ERP”) Certification and the amended 7.26(10)-(16) Perchloroethylene Air Emissions Standards for Dry Cleaning Facilities (together referred to as the “amended Dry Cleaner ERP”) as a partial substitution for the amended National Emissions Standards for Hazardous Air Pollutants for Perchloroethylene Dry Cleaning Facilities (“Dry Cleaning NESHAP”), as it applies to area sources. This approval would make the Massachusetts Department of Environmental Protection's amended rules federally enforceable. Major sources would remain subject to the Federal Dry Cleaning NESHAP. In addition, dry cleaners installed in a building with a residence between December 21, 2005 and July 13, 2006 would remain subject to the Federal Dry Cleaning NESHAP.

DATES: Written comments must be received on or before December 23, 2009.

ADDRESSES: Submit your comments, identified by Docket ID No. EPA-R01-OAR-2009-0031 by one of the following methods:

1. http://www.regulations.gov: Follow the on-line instructions for submitting comments.

2. E-mail: mcdonnell.ida@epa.gov.

3. Fax: (617) 918-0653.

4. Mail: “EPA-R01-OAR-2009-0031”, Ida McDonnell, U.S. Environmental Protection Agency, EPA New England Regional Office, One Congress Street, Suite 1100 (mail code CAP), Boston, MA 02114-2023.

5. Hand Delivery or Courier: Deliver your comments to: Ida McDonnell, Acting Manager, Air Permits, Toxics and Indoor Programs Unit, Office of Ecosystem Protection, U.S. Environmental Protection Agency, EPA New England Regional Office, One Congress Street, 11th floor, (CAP), Boston, MA 02114-2023. Such deliveries are only accepted during the Regional Office's normal hours of operation. The Regional Office's official hours of business are Monday through Friday, 8:30 to 4:30, excluding legal holidays.

Please see the direct final rule which is located in the Rules Section of this Federal Register for detailed instructions on how to submit comments. EPA will forward copies of all submitted comments to the Massachusetts Department of Environmental Protection.

FOR FURTHER INFORMATION CONTACT: Susan Lancey, Air Permits, Toxics and Indoor Programs Unit, Office of Ecosystem Protection, U.S. Environmental Protection Agency, EPA New England Regional Office, One Congress Street, Suite 1100 (CAP), Boston, MA 02114-2023, telephone number (617) 918-1656, fax number (617) 918-0656, e-mail lancey.susan@epa.gov.

SUPPLEMENTARY INFORMATION: In the Final Rules Section of this Federal Register, EPA is approving the Commonwealth of Massachusetts' Section 112(l) submittal as a direct final rule without prior proposal because the Agency views this as a noncontroversial submittal and anticipates no adverse comments. A detailed rationale for the approval is set forth in the direct final rule. If no adverse comments are received in response to this action rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

For additional information, see the direct final rule which is located in the Rules Section of this Federal Register.

Dated: October 15, 2009.
Ira W. Leighton,
Acting Regional Administrator, EPA-New England.

[FR Doc. E9-27819 Filed 11-20-09; 8:45 am]

BILLING CODE P